DEPARTMENT OF EDUCATION

[Docket No.: ED-2013-ICCD-0093]

Agency Information Collection Activities; Submission to the Office of Management and Budget for Review and Approval; Comment Request; Program for International Student Assessments (PISA) Validation Study

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before October 16, 2013.

ADDRESSES: Comments submitted in response to this notice should be submitted electronically through the Federal eRulemaking Portal at http://www.regulations.gov by selecting Docket ID number ED-2013-ICCD-0093 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E103, Washington, DC 20202-4537.

FOR FURTHER INFORMATION CONTACT: For questions related to collection activities or burden, please call Katrina Ingalls, 703-620-3655 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for International Student Assessments (PISA) Validation Study.

OMB Control Number: 1850-NEW.

Type of Review: A new collection.

Respondents/Affected Public: Individuals or households.

Total Estimated Number of Annual Responses: 5,810.

Total Estimated Number of Annual Burden Hours: 2,240.

Abstract: PISA (Program for International Student Assessment OMB #1850-0755) is an international assessment of 15-year-olds designed to evaluate, at the end of compulsory education, how well students are prepared for further education or entry into the workforce and, more fundamentally, to contribute to society as functioning young adults. However, PISA has been implemented as a cross-sectional study and, thus, the claim that PISA assesses key competencies for later success has never been tested in the United States. What is lacking is an empirical linkage between PISA and measures of successful transition from high school to postsecondary education, the workforce, or the types of skills required for successful participation in adult life. This Validation Study is designed to provide this empirical linkage. (A separate OMB number is being requested for this clearance since it is a separate study from the PISA #1850-0755 collection.) Students in the U.S. who participated in PISA in 2012 and supplied contact information will be contacted in early 2013 and invited to participate in the PISA Validation Study. In 2015, when these students will be 18 years old, they will be asked to complete an online questionnaire and assessment, based on those used in the Program for the International Assessment of Adult Competencies (PIAAC), assessing their literacy, numeracy, and problem-solving skills, and asking them about their educational attainment, education and work experiences, skills used in daily life, and aspects of health and well-being. This submission is for address updates of both filed trial and main study sample members, and will be followed in 2014 by requests for field test and main study recruitment and data collections activities.

Kate Mullan,
Acting Director, Information Collection Clearance Division, Privacy, Information and Records Management Services, Office of Management.

[FR Doc. 2013-22473 Filed 9-13-13; 8:45 am]

BILLING CODE 4000-01-P